DEPARTMENT OF COMMERCE

Patent and Trademark Office

37 CFR Parts 1 and 41

[Docket No. PTO-P-2023-0005]

RIN 0651-AD66

Reducing Patent Fees for Small Entities and Micro Entities Under the Unleashing American Innovators Act of 2022

Correction

Rule document C1-2023-05382, appearing on page 19862, beginning in the first column, in the issue of Tuesday, April 4, 2023, is hereby withdrawn.

In rule document 2023-05382, appearing on pages 17147-17159, in the issue of Wednesday, March 22, 2023, make the following corrections:

On page 17157, in the first column, in instruction 8, the table heading for Table 3 to Paragraph (a)(1)(i)(C) and the table heading for Table 4 to Paragraph (a)(1)(ii) are corrected to read as follows:

§ 1.445 International application filing, processing and search fees. [Corrected]

(a) * * *

(1) * * *

(i) * * *

(C) * * *

Table 3 to Paragraph (a)(1)(i)(C)

* * * * *

(ii) * * *

Table 4 to Paragraph (a)(1)(ii)

* * * * *

[FR Doc. C2-2023-05382 Filed 4-24-23; 8:45 am]

BILLING CODE 0099-10-D